FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Amerasia Shipping Logistics U.S. (NVO & OFF), 8441 Sandalwood Circle, Westminster, CA 92863, Officer: Phong T. Khuu, President (QI), Application Type: New NVO & OFF License

F.M. Air Inc. (NVO & OFF), 8140 NW 74th Avenue, Unit 6, Medley, FL 33166, Officers: Uilson Nascimento, Jr., Vice President (QI), Marco H. Munhoz, President, Application Type: Add NVO Service

Florida Export Shipping Corp (OFF), 5404 24th South, Tampa, FL 33619, Officers: Claudia E. Campbell, President (QI), Gennare Vitelli, Vice President, Application Type: New OFF License

The Right Guys Moving and Storage Inc. dba Move It (OFF), 4100 N. Powerline Road, Suite S-5, Pompano, FL 33073, Officer: Robert E. Boni, President (QI), Application Type: New OFF License

Transcon Shipping Co., Inc. (NVO), 6242 Westchester Parkway, Suite 160, Los Angeles, CA 90045, Officers: Martin G. Lynch, Director (QI), Terrance P. Lynch, President, Application Type: Add Trade Name Grand Global Logistics

By the Commission.
Dated: June 27, 2013.
Karen V. Gregory.
Secretary.

[FR Doc. 2013-16050 Filed 7-2-13; 8:45 am]

BILLING CODE 6730-01-P